DEPARTMENT OF ENERGY

Federal Energy Regulatory Commission

[Docket No. CP01-10-000]

Williams Gas Pipelines Central, Inc.; Notice of Application

October 19, 2000.

Take notice that on October 12, 2000, Williams Gas Pipelines Central, Inc. (Williams), 3800 Frederica Street, Owensboro, Kentucky 42301, filed in Docket No. CP01-10-000 an application pursuant to sections 7(c) and 7(b) of the Natural Gas Act for permission and approval for Williams to construct and operate certain replacement natural gas facilities and to abandon the facilities being replaced due to the age and condition of the facilities, located in Anderson County and Franklin County, Kansas, all as more fully set forth in the application which is on file with the Commission and open to public inspection. This filing may be viewed on the web at http://www.ferc.fed.us/online/rims.htm (call 202-208-2222 for assistance).

Williams proposes to abandon by removal seven 1,000 horsepower (HP) Cooper Type 22 horizontal compressor units and auxiliary equipment supporting these compressors including station piping at its Ottawa Compressor Station, located in Franklin County, Kansas. Williams also proposes to construct and operate one 6,107 HP (ISO Rated) Solar Centaur 50 turbine/compressor package and supporting appurtenant equipment at its Welda Compressor Station located in Anderson County, Kansas, in replacement of the units proposed to be abandoned at its Ottawa station.

Williams states that the seven horizontal compressor units proposed for replacement were originally constructed in the late 1920's and early 1930's and were placed in service in the 1940's pursuant to Williams' (formerly Cities Service Gas Company) “grandfather” certificate in Docket No. G-298 (4 FPC 471). Williams declares that it has experienced rising maintenance costs associated with the seven horizontal compressors at the Ottawa station and it has become increasingly difficult to obtain replacement parts for these compressor units due to their age.

Williams states that during the withdrawal season, the Ottawa and Welda compressor stations work in tandem to pull gas from the North Welda, South Welda, and Colony storage fields (Welda storage complex). Williams declares that gas withdrawals from the Welda storage complex feed into a common intake at the Welda Compressor Station where the gas is compressed and discharged into Williams' Welda-Ottawa 20-inch and 26-inch pipeline systems and recompressed at the Ottawa station for transport to markets north and east of Ottawa.

Williams asserts that the certificated MAOP of the Welda-Ottawa 20-inch pipeline is 690 psig. Williams states that during periods of peak withdrawal, they have been unable to discharge from the Welda station into the Ottawa-Welda 20-inch line at the certificated MAOP for transport of gas toward the Ottawa station.

Williams asserts that the efficiency and reliability of the Welda and Ottawa stations is critical for Williams to continue to meet customer obligations. Williams declares that the granting of the proposal will gain operating efficiency and reliability along this segment of the Williams pipeline system by reducing maintenance costs of vintage compressors and by restoring operating pressure capabilities at their designed and approved pressure capabilities.

Williams asserts that the estimated cost for the proposed turbine and auxiliary support facilities is $7,105,795 and the estimated cost associated with the proposed abandonment is $179,305. Williams states that the proposed age and condition replacement and the benefits it provides to existing customers in overall reliability, flexibility, and efficiency to the system, qualifies for rolled-in rate treatment under the Commission's Statement of Policy, 88 FERC Paragraph 61,227 (1999) as interpreted by the Commission in Texas Gas Transmission Corporation, 90 FERC Paragraph 62,190 (2000). Therefore, Williams requests all project costs should be permitted rolled-in treatment in William's next rate case.

Any questions regarding the application should be directed to David N. Roberts, Manager, Certificates & Tariffs, at (270) 688-6712, Williams Gas Pipelines Central, Inc., P.O. Box 20008, Owensboro, Kentucky 42301.

Any person desiring to be heard or to make any protest with reference to said Application should on or before November 9, 2000, file with the Federal Energy Regulatory Commission, 888 First Street, NW., Washington, DC 20426, a motion to intervene or a protest in accordance with the requirements of the Commission's Rules of Practice and Procedure (18 CFR 385.211 or 18 CFR 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Beginning November 1, 2000, comments and protests may be filed electronically via the internet in lieu of paper. See, 18 CFR 385.2001(a)(1)(iii) and the instructions on the Commission's web site at http://www.ferc.fed.us/efi/doorbell.htm.

Take further notice that pursuant to the authority contained in and subject to the jurisdiction conferred upon the Commission by Sections 7 and 15 of the Natural Gas Act and the Commission's Rules of Practice and Procedure, a hearing will be held without further notice before the Commission or its designee on this Application if no petition to intervene is filed within the time required herein, if the Commission on its own review of the matter finds that a grant of the abandonment is required by the public convenience and necessity. If a petition for leave to intervene is timely filed, or if the Commission, on it own motion believes that a formal hearing is required, further notice of such hearing will be duly given.

Under the procedure herein provided for, unless otherwise advised, it will be unnecessary for Applicant to appear or be represented at the hearing.

David P. Boergers,
Secretary.

[FR Doc. 00-27337 Filed 10-24-00; 8:45 am]

BILLING CODE 6717-01-M